DEPARTMENT OF AGRICULTURE

Notice of Availability of Final Soil Scientist Specialist Report and Determination

AGENCY: Forest Service, USDA.

ACTION: Notice of availability.

SUMMARY: The Final Soil Scientist Specialist Report for the Basin Creek Hazardous Fuels Reduction Project Soil Productivity Best Management Practices Monitoring Compliance with Regional Soil Quality Standards and Determination that a modified record of decision is not needed, are available for public review. This final report supplements the soils effects section of the 2004 Basin Creek Hazardous Fuels Reduction Final Environmental Impact Statement.

ADDRESSES: The Final Soil Scientist Report and Determination are available at:

(1) http://www.fs.fed.us/r1/b-d/projects/

(2) Beaverhead-Deerlodge National Forest, Supervisors Office, 420 Barrett Street, Dillon, MT 59725.

FOR FURTHER INFORMATION CONTACT: Cindy Tencick, 406-683-3930 or e-mail: ctencick@fs.fed.us.

Dated: February 5, 2007.
Peri R. Suenram,
Planning, Budget, Systems Staff Officer.

[FR Doc. E7-2376 Filed 2-12-07; 8:45 am]

BILLING CODE 3410-83-P